DEPARTMENT OF COMMERCE

International Trade Administration

A-570-863

Notice of Extension of Preliminary Results of New Shipper Antidumping Duty Reviews: Honey From the People's Republic of China

AGENCY: Import Administration, International Trade Administration, Department of Commerce.

SUMMARY: The Department of Commerce (the Department) is conducting new shipper antidumping duty reviews on honey from the People's Republic of China (PRC) in response to requests by respondents Anhui Honghui Foodstuff (Group) Co., Ltd. (Anhui Honghui), Eurasia Bee's Products Co., Ltd. (Eurasia), Inner Mongolia Youth Trade Development Co., Ltd. (Inner Mongolia Youth), and Jiangsu Kanghong Natural Healthfoods Co., Ltd. (Jiangsu Kanghong). The review covers shipments to the United States for the period December 1, 2002, to November 30, 2003, by these four respondents. For the reasons discussed below, we are extending the preliminary results of this administrative review by 61 days, to no later than September 27, 2004.

FOR FURTHER INFORMATION CONTACT: Jim Nunno at (202) 482-0783 or Anya Naschak at (202) 482-6375; Antidumping and Countervailing Duty Enforcement Group III, Import Administration, International Trade Administration, U.S. Department of Commerce, 14th Street and Constitution Avenue, NW, Washington, DC 20230.

EFFECTIVE DATE: June 1, 2004.

SUPPLEMENTARY INFORMATION:

Background

The Department received timely requests from Anhui Honghui Foodstuff (Group) Co., Ltd. (Anhui Honghui), Eurasia Bee's Products Co., Ltd. (Eurasia), Foodworld International Club Limited (Foodworld), Inner Mongolia Youth Trade Development Co., Ltd. (Inner Mongolia Youth), Jiangsu Kanghong Natural Healthfoods Co., Ltd. (Jiangsu Kanghong), and Shanghai Shinomiel International Trade Corporation (Shanghai Shinomiel), in accordance with 19 CFR 351.214(c), for new shipper reviews of the antidumping duty order on honey from the PRC, which has a December annual anniversary month and a June semiannual anniversary month. See Notice of Amended Final Determination of Sales at Less Than Fair Value and Antidumping Duty Order; Honey from the People's Republic of China, 66 FR 63670 (December 10, 2001). On January 30, 2004, the Department found that the requests for review with respect to Anhui Honghui, Eurasia, Inner Mongolia Youth, and Jiangsu Kanghong met all the regulatory requirements set forth in 19 CFR 351.214(b) and initiated this new shipper antidumping duty review covering the period December 1, 2002, through November 30, 2003. The Department did not initiate new shipper reviews for the remaining two companies (i.e., Foodworld and Shanghai Shinomiel). See Honey From the People's Republic of China: Initiation of New Shipper Antidumping Duty Reviews, 69 FR 5835 (February 6, 2004).

On February 4, 2004, we issued antidumping duty questionnaires to Anhui Honghui, Eurasia, Inner Mongolia Youth, and Jiangsu Kanghong. On February 13, 2004, we issued supplemental questionnaires to Anhui Honghui and Jiangsu Kanghong. On February 27, 2004, we received information from Anhui Honghui and Jiangsu Kanghong regarding intra-company sales. On March 16, 2004, we received a response to Section A of our antidumping duty questionnaire from Inner Mongolia Youth. On March 17, 2004, we received responses to Section A of our antidumping duty questionnaire from Anhui Honghui, Eurasia, and Jiangsu Kanghong.

On March 25, 2004, we invited interested parties to comment on the Department's surrogate country selection and/or significant production in the potential countries and to submit publicly available information to value the factors of production.

On March 30, 2004, we received a response to Sections C and D of our antidumping duty questionnaire from Inner Mongolia Youth. On March 31, 2004, we received responses to Sections C and D of our antidumping duty questionnaire from Anhui Honghui, Eurasia, and Jiangsu Kanghong and, where applicable, from their U.S. affiliates and/or the respective importers.

On March 30 and April 1 and 13, 2004, the American Honey Producers Association and the Sioux Honey Association (collectively, the petitioners) submitted deficiency comments on the respondents' questionnaire responses.

On April 15, 2004, the petitioners submitted comments on the selection of the proper surrogate country.

On April 16, 2004, we issued a supplemental questionnaire to Inner Mongolia Youth. On April 16 and 23, 2004, we issued supplemental questionnaires to Anhui Honghui and Jiangsu Kanghong. On April 19 and 23, 2004, we issued supplemental questionnaires to Eurasia. We also issued questionnaires to the respondents' U.S. customers on April 28, 2004. On April 30, 2004, we received a response to our supplemental questionnaire from Inner Mongolia Youth. On May 3, 2004, we received responses to our supplemental questionnaires from Anhui Honghui and Jiangsu Kanghong. On May 6 and 7, 2004, we received a response to our supplemental questionnaire from Eurasia. We received responses to our questionnaires to U.S. customers on May 7, 2004.

On May 10, 2004, the petitioners and respondents submitted comments on surrogate information with which to value the factors of production in this proceeding.

The preliminary results are currently due no later than July 28, 2004.

Extension of Time Limits for Preliminary Results

Section 751(a)(2)(B)(iv) of the Tariff Act of 1930, as amended (the Act), and 19 CFR 351.214(i)(1) require the Department to issue the preliminary results of a new shipper review within 180 days after the date on which the new shipper review was initiated and final results of a review within 90 days after the date on which the preliminary results were issued. The Department may, however, extend the deadline for completion of the preliminary results of a new shipper review to 300 days if it determines that the case is extraordinarily complicated (19 CFR 351.214 (i)(2)). The Department has determined that this case is extraordinarily complicated, and the preliminary results of this new shipper review cannot be completed within the statutory time limit of 180 days.

Specifically, the Department needs additional time because of the complexity of some of the issues, issuing supplemental questionnaires requesting additional information, and the scheduling of verifications. In particular, the Department needs additional time to research and analyze the appropriate surrogate values for raw honey. Given the issues in this case, the Department finds that this case is extraordinarily complicated, and cannot be completed within the statutory time limit.

Accordingly, the Department is extending the time limit for the completion of the preliminary results by 61 days, to September 27, 2004, in accordance with section 751(a)(2)(B)(iv) of the Act and 19 CFR 351.214(i)(2). The final results will, in turn, be due 90 days after the date of issuance of the preliminary results, unless extended.

Dated: May 24, 2004.
Joseph A. Spetrini,
Deputy Assistant Secretary for Import Administration, Group III.

[FR Doc. 04-12297 Filed 5-28-04; 8:45 am]

BILLING CODE 3510-DS-S